DEPARTMENT OF TRANSPORTATION

Federal Aviation Administration

Sixth Meeting, Special Committee 214: Standards for Air Traffic Data Communication Services, Working Group 78 (WG-78)

AGENCY: Federal Aviation Administration (FAA), DOT.

ACTION: Notice of RTCA Special Committee 214, Standards for Air Traffic Data Communication Services Working Group 78 (WG-78).

SUMMARY: The FAA is issuing this notice to advise the public of a sixth meeting of RTCA Special Committee 214, Standards for Air Traffic Data Communication Services.

DATES: The meeting will be held December 8-12, 2008, from 9 a.m.-5 p.m.

ADDRESSES: The meeting will be held at ALTRAN Sud-Ouest, Toulouse, France.

SUPPLEMENTARY INFORMATION: Pursuant to section 10(a)(2) of the Federal Advisory Committee Act (P.L. 92-463, 5 U.S.C., Appendix 2), notice is hereby given for a Special Committee 214 meeting. The agenda will include:

Meeting Objectives

• Agree the Review Criteria to be used for the Plenary Consultation of the draft standards;

• Complete the Draft Integrated SPR for Plenary Consultation;

• Complete the ATN and FANS-1/A Draft Interop Standards for Plenary Consultation;

• Complete the draft 4DTRAD OSED Standards for Plenary Consultation.

• Review the scope and timescales for the work remaining.

Note: The term “Agree” in the objectives above means that the document is on track with no major changes expected. It does not mean formal approval by the Plenary.

Day 1

Morning: Review of Status and Needs.

• Welcome/Introductions/Administrative Remarks.

• Approval of the Agenda.

• Review of the work so far, Work Plan and TORs.

• SC-206/WG-76 Coordination.

• WG-51/SC-186 Coordination.

• Approval of the Summary of Plenary #5, RTCA Paper No. 256-08/SC214-016.

• Review of the proposed SC-214/WG-78 Terms of Reference.

• Presentation of the Review Criteria for the Plenary Consultation.

Afternoon: SC-214/WG78 Plenary Session.

• Subgroup Reports and Action Item Responses.

• SG-1, SG-2 and SG-3.

Day 2: Subgroup Working Sessions

Morning & Afternoon:

• Subgroups Activity: subgroups General, SG1, SG2 and SG3.

Day 3: Subgroup Working Sessions

Morning & Afternoon:

• Subgroups Activity: subgroups General, SG1, SG2 and SG3.

Day 4: SC-214/WG78 Plenary

Morning:

• Subgroup Reports General, SG-1, SG-2, SG-3.

Afternoon:

• Approval of the Review Criteria for the Plenary Consultation.

• Approval of the Draft documents to be submitted to Plenary Consultation.

• Review Committee Plan—Master Schedule.

• Review Dates, Location and Agenda for Next Meeting.

• Any Other Business.

Day 5: Subgroup Working Sessions (Implementation of Plenary Decisions)

Morning & Afternoon:

• Subgroups Activity: subgroups General, SG1, SG2 and SG3.

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on November 18, 2008.
Francisco Estrada C.,
RTCA Advisory Committee.

[FR Doc. E8-28049 Filed 11-24-08; 8:45 am]

BILLING CODE 4910-13-P